DEPARTMENT OF VETERANS AFFAIRS

[OMB Control No. 2900-0636]

Agency Information Collection Activity Under OMB Review: Accelerated Payment Verification of Completion Letter

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden; it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0636.”

FOR FURTHER INFORMATION CONTACT: Danny S. Green, Enterprise Records Service (005R1B), Department of Veterans Affairs, 810 Vermont Avenue NW, Washington, DC 20420, (202) 421-1354 or email danny.green2@va.gov. Please refer to “OMB Control No. 2900-0636” in any correspondence.

SUPPLEMENTARY INFORMATION:

Authority: Public Law 107-103; Public Law 110-181; Section 3014A of title 38; Section 16131a of title 10; 38 CFR 21.7154(d)(1); Sections 16131a of title 10, United States Code.

Title: Accelerated Payment Verification of Completion Letter.

OMB Control Number: 2900-0636.

Type of Review: Revision of a currently approved collection.

Abstract: Claimants electing to receive an accelerated payment for educational assistance allowance must certify they received such payment and how the payment was used. The data collected is used to determine the claimant's entitlement to accelerated payment.

An agency may not conduct or sponsor, and a person is not required to respond to a collection of information unless it displays a currently valid OMB control number. The Federal Register Notice with a 60-day comment period soliciting comments on this collection of information was published on September 8, 2020, at page 55581.

Affected Public: Individuals and Households.

Estimated Annual Burden: 1 hour.

Estimated Average Burden per Respondent: 5 minutes.

Frequency of Response: One Time.

Estimated Number of Respondents: 9.

By direction of the Secretary.
Danny S. Green,
VA PRA Clearance Officer, Office of Quality, Performance and Risk, Department of Veterans Affairs.

[FR Doc. 2020-25092 Filed 11-12-20; 8:45 am]

BILLING CODE 8320-01-P